DEPARTMENT OF DEFENSE

Department of the Army

[Docket ID USA-2009-0017]

Privacy Act of 1974; System of Records

AGENCY: Department of the Army, DoD.

ACTION: Notice to add a system of records.

SUMMARY: The Department of the Army is proposing to add a system of records to its existing inventory of records systems subject to the Privacy Act of 1974, (5 U.S.C. 552a), as amended.

DATES: The proposed action will be effective on August 19, 2009 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 10, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: July 13, 2009.
Morgan E. Frazier,
Alternate OSD Federal Register Liaison Officer, Department of Defense.

A0600-63 G3/5/7

System name:

Soldier Fitness Tracker System.

System location:

HQDA G3/5/7-CCSA, Information Management Support Center, Zachary Taylor Building, 2530 Crystal Drive, Arlington, VA 22202-0400.

Categories of individuals covered by the system:

Current Army military personnel (Active Duty, Reserve, and National Guard), family members of Army service members, and Army civilian employees.

Categories of records in the system:

The Soldier Fitness Tracker System contains up-to-date and historical data related to family, emotional, spiritual, social, and physical fitness. It will include names, Social Security Numbers (SSN), dates of birth, gender, race, ethnic category, rank/grade, service, service component, occupation, education level, marital status, dependent quantities, home and unit location data including 5 digit zip codes, and various other information elements. In addition, the system will contain data on periodic and deployment health appraisal information and historical data on personnel and deployments. It includes medical encounter information including periodic health and wellness survey information, readiness status information, and longitudinal demographic and occupational information, assignment and deployment information, and results of aptitude tests. It also includes information related to enrollment and completion of programs to improve employee physical and mental functioning.

Authority for maintenance of the system:

5 U.S.C. 301, Departmental Regulations; 10 U.S.C. 136, Under Secretary of Defense for Personnel and Readiness; 10 U.S.C. 3013, Secretary of the Army; DoD Instruction 1100.13, Surveys of DoD Personnel; DoD Directive 6490.2, Comprehensive Health Surveillance; DoD Directive 6490.3, Deployment Health; DoD Directive 1404.10, Civilian Expeditionary Workforce; AR 600-63, The Army Health Program and E.O. 9397 (SSN).

Purpose(s):

The Soldier Fitness Tracker System supports a systematic collection, analysis, interpretation, and reporting of standardized, population based data for the purposes of self assessing, characterizing, and developing individualized profiles to guide individuals through structured self development training modules with the goal of improving mental and physical well-being, coping skills and strategies. The Comprehensive Soldier Fitness Program, which operates the Soldier Fitness Tracker System, routinely advises leadership of trends and anomalies in the Comprehensive Soldier Fitness Leader's Monthly Summary Report. Summarized unit level reports will be disseminated via the Leader's Decision Support Dashboard to military leaders.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the Army's compilation of systems of records notices also apply to this system.

Note: This system of records contains Personal Identifiable Information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Electronic storage media.

Retrievability:

By individual Social Security Number (SSN), Service Number, and name.

Safeguards:

Electronic records are maintained within secured buildings in areas accessible only to persons having official need to know, and who are properly trained and screened. In addition, the system will be a controlled system with passwords, and Common Access Card (CAC) governing access to data.

Retention and disposal:

Records are destroyed when no longer needed for reference and/or for conducting business. Records are destroyed by erasing.

System manager(s) and address:

Program Manager, Soldier Fitness Tracker System, HQDA G-3/5/7-CSF, Zachary Taylor Building, 2530 Crystal Drive, Arlington, VA 22202-0400.

Notification procedure:

Individuals seeking to determine whether information about themselves is contained in this system should address written inquiries to the HQDA G-3/5/7-CSF, Director, Zachary Taylor Building, 2530 Crystal Drive, Arlington, VA 22202-0400.

For verification purposes, individuals should provide their full name, Social Security Number (SSN), any details, which may assist in locating records, and their signature. In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking access to information about themselves contained in this system should address written inquiries to the HQDA G-3/5/7-CSF, Director, Zachary Taylor Building, 2530 Crystal Drive, Arlington, VA 22202-0400.

For verification purposes, individuals should provide their full name, Social Security Number, any details, which may assist in locating records, and their signature. In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, and for contesting contents and appealing initial agency determinations are contained in Army Regulation 340-21; 32 CFR part 505; or may be obtained from the system manager. Denial to amend records in this system can be made only by the Deputy Chief of Staff for Personnel in coordination with the Director of Comprehensive Soldier Fitness.

Record source categories:

From personnel, healthcare, training, and financial information systems. From individuals by interview and health assessment surveys. From abstracts of medical records and results of tests.

Exemptions claimed for the system:

None.

[FR Doc. E9-17149 Filed 7-17-09; 8:45 am]

BILLING CODE 5001-06-P